DEPARTMENT OF ENERGY

Federal Energy Regulatory Commission

[Docket No. EG04-19-000, et al.]

CNC/SEGS, Inc., et al.; Electric Rate and Corporate Filings

January 2, 2004.

The following filings have been made with the Commission. The filings are listed in ascending order within each docket classification.

1. CNC/SEGS, Inc.

[Docket No. EG04-19-000]

On December 23, 2003, CNC/SEGS, Inc. (CNC/SEGS) filed with the Commission pursuant to part 365 of the Commission's regulations a limited clarification (Limited Clarification) to its application (Application) for a determination of exempt wholesale generator (EWG) status to be effective as of the date of the original Application. CNC/SEGS is a corporation duly organized under the laws of California. CNC/SEGS states that it is an indirect owner of a partial interest in a solar-powered small power production facility located near Kramer Junction, California.

Comment Date: January 15, 2004.

2. POSDEF Power Company, L.P.

[Docket No. EG04-25-000]

Take notice that on December 23, 2003, POSDEF Power Company, L.P. (the Applicant), with its principal office at 700 Universe Blvd., Juno Beach, Florida 33408, filed with the Federal Energy Regulatory Commission (the Commission) an application for determination of exempt wholesale generator status pursuant to part 365 of the Commission's regulations.

Applicant states that it is a California limited partnership engaged directly and exclusively in the business of owning and operating an approximately 44 MW coal-fueled cogeneration facility located in Stockton, California. Applicant further states that electric energy produced by the facility will be sold at wholesale.

Comment Date: January 13, 2004.

3. El Paso Electric Company

[Docket No. EL02-113-004]

Take notice that on December 23, 2003, El Paso Electric Company submitted a compliance filing pursuant to the Commission's Letter Order issued October 23, 2003, 105 FERC ¶ 61,107.

Comment Date: January 13, 2004.

4. Wolverine Power Supply Cooperative, Inc.

[Docket No. ER98-411-012]

Take notice that on December 23, 2003, Wolverine Power Supply Cooperative, Inc. (Wolverine) tendered for filing a triennial market power analysis in compliance with the Commission's December 23, 1997, Order in Wolverine Power Supply Cooperative, Inc., 81 FERC ¶ 61,369 (1997).

Comment Date: January 13, 2004.

5. New York Independent System Operator, Inc.

[Docket No. ER01-3001-008]

Take notice that on December 23, 2003, the New York Independent System Operator, Inc. (NYISO) submitted a correction to its December 1, 2003, report on the status of its demand side management programs and the status of the addition of new generation resources in New York State. NYISO states that the filing corrects a statement that appears on page 5 of the cover letter to the report. The NYISO further states that it has served a copy of this filing upon all parties that have executed service agreements under the NYISO's Open Access Transmission Tariff and Market Administration and Control Area Services Tariff.

Comment Date: January 13, 2004.

6. Alliant Energy Corporate Services, Inc.

[Docket No. ER02-762-003]

Take notice that on December 23, 2003, Alliant Energy Corporate Services, Inc. (AESC) submitted for filing Original Sheet Nos. 27 and 28 under FERC Electric Tariff Volume No. 1, pursuant to Commission Order issued December 11, 2003 in Docket No. EL01-118-000, et. al.

Comment Date: January 13, 2004.

7. American Electric Power Service Corporation, Commonwealth Edison Company, the Dayton Power and Light Company, and PJM Interconnection, L.L.C.

[Docket No. ER03-262-012]

Take notice that on December 22, 2003, Commonwealth Edison Company and Commonwealth Edison Company of Indiana, Inc. (collectively ComEd) submitted an informational filing to update the list of jurisdictional transmission facilities owned by ComEd which will be placed under the operational control of PJM Interconnection, L.L.C.

Comment Date: January 12, 2004.

8. El Paso Electric Company

[ Docket No. ER04-26-001]

Take notice that on December 23, 2003, El Paso Electric Company (EPE) submitted a filing in compliance with a November 24, 2003, Letter Order in Docket No. ER04-26-000. EPE states that the compliance filing contains cost data in support of EPE's rates charged for Real Power Loss service and EPE's newly issued Open Access Transmission Tariff, FERC Electric Tariff Third Revised Volume No. 1.

Comment Date: January 13, 2004.

9. Xcel Energy Services Inc., Northern States Power Company

[Docket No. ER04-92-001]

Take notice that on December 23, 2003, Xcel Energy Services Inc. (XES) on behalf of Northern States Power Company (NSP) submitted a refund reporting compliance with the Commission's December 17, 2003, Letter Order in Docket No. ER04-92-000.

Comment Date: January 13, 2004.

10. Bangor Energy Resale, Inc.

[Docket No. ER04-326-000]

Take notice that on December 23, 2003, Bangor Energy Resale, Inc. submitted a Notice of Cancellation for its market-based rate schedule.

Comment Date: January 13, 2004.

11. Connexus Energy

[Docket No. ER04-327-000]

Take notice that on December 23, 2003, Connexus Energy submitted for filing revised sheets to Connexus Energy's Electric Rate Schedule FERC No. 1. Connexus Energy states that the revised sheets effect minor rate changes under Connexus Energy's contract with Elk River Municipal Utilities. Connexus Energy requests waiver of the Commission's notice requirement to allow a January 1, 2004, effective date.

Comment Date: January 13, 2004.

12. Progress Energy, Inc. on Behalf of Carolina Power & Light Company

[Docket No. ER04-328-000]

Take notice that on December 23, 2003, Progress Energy, Inc. on behalf of Carolina Power & Light Company (CP&L) tendered for filing a Service Agreement for Network Integration Transmission Service and a Network Operating Agreement with Piedmont Electric Membership Corporation. CP&L is requesting an effective date of January 1, 2004, for this Service Agreement. CP&L further states that a copy of the filing was served upon the North Carolina Utilities Commission and the South Carolina Public Service Commission.

Comment Date: January 13, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-37 Filed 1-9-04; 8:45 am]

BILLING CODE 6717-01-P